DEPARTMENT OF COMMERCE

Office of the Secretary

[Docket No. 120127071-2071-01]

Commerce Business Apps Challenge

AGENCY: Office of the Secretary (OS), Department of Commerce.

ACTION: Notice.

SUMMARY: A key mission of both the Department of Commerce (DOC) is to help U.S. businesses grow and create jobs. Recently, the White House launched the BusinessUSA Initiative (www.Business.USA.gov) to help further these goals. This notice announces the Commerce Business Apps Challenge (http://docbusinessapps.challenge.gov) which DOC is launching to encourage members of the public to develop, using at least one DOC data set, an application (Web, mobile, PC, etc.) that assists businesses and/or improves the service delivery of Business.USA.gov to the business community. Specifically, we're looking for innovative ways to use DOC and other federal data and program information to help businesses:

• Learn about and evaluate opportunities, both here in the U.S. and internationally;

• Access useful government services, data, and market information;

• Fund business activities;

• Support education and training, and

• Facilitate or accelerate the pursuit of operating and growing their business.

This notice announces the BizApps Challenge and explains its terms and conditions, and prizes.

DATES: Contestants must register for the contest on this Web site by creating an account between February 22nd and April 30th, 2012. The judging period will run from May 1, 2012, 12 a.m. EDT to May 21, 2012, 11:59 p.m. EDT. DOC will announce contest winners on May 31, 2012, or soon thereafter.

FOR FURTHER INFORMATION CONTACT: Gordon Keller, by phone at 202-482-2490, or via email at GKeller@doc.gov, or Mike Kruger, by phone at 202-482-2556, or via email at MKruger@doc.gov.

SUPPLEMENTARY INFORMATION: To facilitate the public's awareness of the various types of DOC data available to businesses online and to enhance the usability and service delivery of the newly launched BusinessUSA Initiative (www.Business.USA.gov), DOC announces a contest, open to the public, to develop an application using at least one DOC data set, to assist businesses and/or improves the service delivery of Business.USA.gov to the business community.

You pick the technology* * *

• The web

• A personal computer

• A mobile handheld device, or

• Any platform broadly accessible to the open Internet

* * *we provide the data (or at least some of it).

DOC offers a wealth of economic, demographic, environmental, weather, international trade, scientific research and program data and in this challenge, we require that you use at least one of our datasets in your application. This data can be layered and/or combined with any other federal, state, local or publicly available information or datasets that you wish. Below are listed some repositories for DOC and other federal data:

• Commerce Data

○ U.S. Census Bureau—Population, household, housing, demographics. Economic census and monthly indicators, foreign trade, employment statistics, maps, geographic data and more.

http://www.census.gov/

http://www.census.gov/main/www/access.html

○ International Trade Administration (ITA)—International market research, export assistance services, market access assistance, trade agreements

http://www.trade.gov

http://www.export.gov

○ U.S. Patent and Trademark Office (USPTO)— www.uspto.gov

○ National Oceanic and Atmospheric Administration (NOAA)—

Climate Data— http://www.ncdc.noaa.gov/oa/ncdc.html

Weather Data— http://www.nws.noaa.gov/

○ National Technical Information Service (NTIS)—Database of research sponsored by the U.S. and select foreign governments.

http://www.ntis.gov/products/ntisdb.aspx

○ Economic Development Administration— http://www.eda.gov

○ Bureau of Economic Analysis (BEA)— http://www.bea.gov/itable/index.cfm

○ Bureau of Industry and Security (BIS)— http://www.bis.doc.gov/

○ Economic and Statistics Administration (ESA)— http://www.esa.doc.gov

○ National Telecommunications and Information Administration (NTIA)— www.ntia.doc.gov

○ All DOC's data sets on Data.Gov: (http://www.data.gov/list/agency/1/0/catalog/raw/page/1/count/50)

• www.Data.gov—repository for data and geodata from across the federal government, searchable by agency, data type, keyword, among others. Many, but not all Commerce data sets reside here.

• http://www.data.gov/business—A business specific section of Data.gov (above), this Web site features business-related datasets and applications from across the federal government.

Also:

• List of Open Data Sites Around the World: http://www.data.gov/opendatasites

• Amazon Listing of Public Data Sets: http://aws.amazon.com/datasets

• Washington DC: http://data.octo.dc.gov

• New York: http://nyc.gov/data

• San Francisco: http://datasf.org/

• U.K.: http://data.gov.uk/

These represent only a partial list of data repositories, and contestants are encouraged to use others as needed.

What's in it for you?

The applications that best satisfy the competition criteria will receive cash prizes up to $5,000 for the first prize winner. We encourage contestants to combine DOC data with other publicly accessible data feeds from around the Web, and to be creative in exploring approaches for realizing the goals.

How To Enter

Contestants must register for the contest on this Web site by creating an account between February 6 and April 30, 2012. Registrants will receive an email to verify their account and may then enter their submissions via the “Post a Submission” tab (Submissions).

1. Submissions may be any kind of software tool, be it for the Web, a personal computer, a mobile handheld device, console, or any platform broadly accessible to the open Internet.

2. A Submission may be disqualified if it does not function as expressed in the description or if it does not comply with the contest entry criteria (e.g., use of at least one DOC dataset).

3. All Submissions must be available for public use and evaluation by April 30, 2012 in order to be considered for judging purposes.

4. Once a Submission is made, the Contestant cannot make any changes or alterations to the Submission until the judging is complete. The approximate date by which the judging will be complete is May 21, 2012.

For all Submissions, the Contestant agrees that DOC will have the ability to release the code as open source at its discretion (see Rules for more details).

Important Dates

Submission Period

Start: February 6, 2012 12 a.m. EDT. End: April 30, 2012 11:59 p.m. EDT.

Judging Period

Start: May 1, 2012 12 a.m. EDT. End: May 21, 2011 11:59 p.m. EDT.

Winners announced: May 31, 2011 12 a.m. EDT, or soon thereafter.

Judges

An exclusive panel of high-profile judges will evaluate and vote on the entries. The panel includes:

• John Bryson, Secretary of Commerce

• Steven Van Roekel, Federal CIO

• Sheryl Sandberg, Chief Operating Officer, Facebook

• Vint Cerf, Chief Internet Evangelist, Google

• Tim O'Reilly, founder and CEO of O'Reilly Media

• Vivek Kundra, Executive Vice President of Emerging Markets, Salesforce.com

Judging Criteria

1. Use of DOC Data (20%)

Does the application use a novel combination of relevant data sets, including at least one dataset from one of Commerce's bureaus?

• Bureau of Economic Analysis (BEA)

• Bureau of Industry and Security (BIS)

• U.S. Census Bureau

• Economic Development Administration (EDA)

• Economic and Statistics Administration (ESA)

• International Trade Administration (ITA)

• National Oceanic and Atmospheric Administration (NOAA)

• National Telecommunications Administration (NTIA)

• National Institute of Standards and Technology (NIST)

• National Technical Information Service (NTIS)

• U.S. Patent and Trademark Office (USPTO)

Note: All submissions must cite data sources and note calculations, derivation and mash-ups from the source(s).

2. Usability and Interface Design (20%)

Is the application implemented in a functional and elegant fashion?

3. Relevance to Stated Objective (40%)

Does the application meet the mission defined for this challenge?

4. Creativity

Is the application and concept creative and interesting? (20%)

Prizes

First Place—$5,000 (1 prize)

Second Place—$3,000 (1 prize)

Third Place—$2,000 (1 prize)

Official Rules

Official Rules

1. Eligibility: The U.S. Department of Commerce (DOC)—DOC BizApps Challenge is open only to: (1) Citizens or permanent residents of the United States who are at least thirteen (13) years old at the time of entry (or teams of eligible individuals); and (2) private entities, such as corporations or other organizations, that are incorporated in and maintain a primary place of business in the United States. Individuals submitting on behalf of corporations, nonprofits, or groups of individuals (such as an academic class or other team) must meet the eligibility requirements for individual participants. An individual may join more than one team, corporation, or nonprofit organization. DOC employees and members of their immediate family (spouses, children, siblings, parents), and persons living in the same household as such persons, whether or not related, are not eligible to participate in the Competition.

2. Competition Subject to Applicable Law: The Competition is subject to all applicable federal laws and regulations. Participation constitutes each Participant's full and unconditional agreement to these Official Rules and administrative decisions, which are final and binding in all matters related to the Competition. Eligibility for a prize award is contingent upon fulfilling all requirements set forth herein. This notice is not an obligation of funds; the final award of prizes is contingent upon the availability of appropriations.

3. Competition Submission Period: Developers must submit their original application between February 6, 2012 and April 30, 2012. Submissions will be published on Challenge.gov as they are received throughout the competition submission period.

4. Teams: Challenge submissions can be from an individual or a team. Prize money will be awarded to the project leader for distribution to the rest of the team.

5. Required Datasets: Submissions must use at least one DOC dataset, such as those available at http://www.data.gov. In addition, you can combine data and resources from this or any other public sources online. We anticipate winning entries to draw from the DOC data sources, but to combine them with one another, as well as any of an interesting array of publicly available resources, geospatial and/or location data, etc.

6. Intellectual Property Rights: All submissions to the DOC BizApps Challenge remain the intellectual property of the individuals or organizations that developed them. By registering, consenting to the terms of the challenge, and entering a Submission, however, the Participant agrees that DOC reserves an irrevocable, nonexclusive, royalty-free license to use, copy, distribute to the public, create derivative works from, and publicly display and perform a Submission for a period of one year starting on the date of the announcement of contest winners.

7. Copyright: Participant represents and warrants that he or she is the sole author and copyright owner of the Submission, and that the Submission is an original work of the Participant, or if the Submission is a work based on an existing application, that the Participant has acquired sufficient rights to use and to authorize others, including DOC, to use the Submission, as specified in the “Intellectual Property Rights” section of the Rules; and that the Submission does not infringe upon any copyright or upon any other third party rights of which the Participant is aware, and that the Submission is free of malware.

8. Submission Topic/Theme: All Submissions should meet the intent and spirit of the challenge, as previously defined in the challenge summary.

9. Judges: The Submissions will be judged by the judges identified in the challenge details or by another qualified panel selected by DOC at its sole discretion. The panel will judge the Submissions on the judging criteria identified in the challenge summary in order to select winners in each category. Judges have the right to withdraw without advance notice in the event of circumstances beyond their control. Judges may not (A) have personal or substantial (over $500) financial interests in, or be an employee, officer, director, or agent of any entity that is a registered participant in a competition; or (B) have a familial or financial relationship with an individual who is a registered participant.

10. Decisions: The decisions of the judges will be announced on or about May 31st, 2012 on Challenge.gov.

11. Publicity: Except where prohibited, participation in the Competition constitutes each winner's consent to DOC's and its agents' use of each winner's name, likeness, photograph, voice, opinions, and/or hometown and state information for promotional purposes through any form of media, worldwide, without further permission, payment or consideration.

12. Liability and Insurance: Any and all information provided by or obtained from the Federal Government is without any warranty or representation whatsoever, including but not limited to its suitability for any particular purpose. Upon registration, all participants agree to assume and, thereby, have assumed any and all risks of injury or loss in connection with or in any way arising from participation in this competition, development of any application or the use of any application by the participants or any third-party. Upon registration all participants agree to and, thereby, do waive and release any and all claims or causes of action against the Federal Government and its officers, employees and agents for any and all injury and damage of any nature whatsoever (whether existing or thereafter arising, whether direct, indirect, or consequential and whether foreseeable or not), arising from their participation in the contest, whether the claim or cause of action arises under contract or tort. Upon registration, all participants agree to and, thereby, shall indemnify and hold harmless the Federal Government and its officers, employees and agents for any and all injury and damage of any nature whatsoever (whether existing or thereafter arising, whether direct, indirect, or consequential and whether foreseeable or not), including but not limited to any damage that may result from a virus, malware, etc., to Government computer systems or data, or to the systems or data of end-users of the software and/or application(s) which results, in whole or in part, from the fault, negligence, or wrongful act or omission of the participants or participants' officers, employees or agents.

Based on the subject matter of the Competition, the type of work that it possibly will require, and the likelihood of any claims for death, bodily injury, or property damage, or loss potentially resulting from challenge participation, Participant is not required to obtain liability insurance or demonstrate fiscal responsibility in order to participate in this Competition.

13. Standard Disclaimer: The following disclaimer is mandatory for applications deployed on non-DOC information systems. This standard disclaimer shall be incorporated into the software in such a way that individuals must read and accept its conditions before initial use (Note: The standard disclaimer must appear in all capital letters):

THE MATERIAL EMBODIED IN THIS SOFTWARE IS PROVIDED TO YOU “AS-IS” AND WITHOUT WARRANTY OF ANY KIND, EXPRESS, IMPLIED, OR OTHERWISE, INCLUDING WITHOUT LIMITATION, ANY WARRANTY OF FITNESS FOR A PARTICULAR PURPOSE. IN NO EVENT SHALL THE UNITED STATES DEPARTMENT OF COMMERCE OR THE UNITED STATES GOVERNMENT BE LIABLE TO YOU OR ANYONE ELSE FOR ANY DIRECT, SPECIAL, INCIDENTAL, INDIRECT, OR CONSEQUENTIAL DAMAGES OF ANY KIND, OR ANY DAMAGES WHATSOEVER, INCLUDING WITHOUT LIMITATION, LOSS OF PROFIT, LOSS OF USE, SAVINGS OR REVENUE, OR THE CLAIMS OF THIRD PARTIES, WHETHER OR NOT DOC OR THE U.S. GOVERNMENT HAS BEEN ADVISED OF THE POSSIBILITY OF SUCH LOSS, HOWEVER CAUSED AND ON ANY THEORY OF LIABILITY, ARISING OUT OF OR IN CONNECTION WITH THE POSSESSION, USE, OR PERFORMANCE OF THIS SOFTWARE.

14. Records Retention and FOIA: All materials submitted to DOC as part of a Submission become DOC records and cannot be returned. Any confidential commercial information contained in a Submission should be designated at the time of submission. Submitters will be notified of any Freedom of Information Act requests for their Submissions in accordance with 29 CFR 70.26.

15. 508 Compliance: Participants should keep in mind that the Department of Commerce considers universal accessibility to information a priority for all individuals, including individuals with disabilities. In this regard, the Department is strongly committed to meeting its compliance obligations under Section 508 of the Rehabilitation Act of 1973, as amended, to ensure the accessibility of its programs and activities to individuals with disabilities. This obligation includes acquiring accessible electronic and information technology. When evaluating Submissions for this contest, the extent to which a Submission complies with the requirements for accessible technology required by Section 508 will be considered.

Dated: February 22, 2012.
Simon Szykman,
Official, CIO, Office of the Secretary, U.S. Department of Commerce.

[FR Doc. 2012-5051 Filed 3-1-12; 8:45 am]

BILLING CODE P